DEPARTMENT OF COMMERCE

Patent and Trademark Office

Public Key Infrastructure (PKI) Certificate Action Form

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before August 22, 2005.

ADDRESSES: You may submit comments by any of the following methods:

• E-mail: Susan.Brown@uspto.gov. Include “0651-0045 comment” in the subject line of the message.

• Fax: 571-273-0112, marked to the attention of Susan Brown.

• Mail: Susan K. Brown, Records Officer, Office of the Chief Information Officer, Office of Data Architecture and Services, Data Administration Division, U.S. Patent and Trademark Office, P.O. Box 1450, Alexandria, VA 22313-1450.

FOR FURTHER INFORMATION CONTACT: Requests for additional information should be directed to Chris Rutherford, Information Technology Security Program Office, U.S. Patent and Trademark Office, Madison Building West—Room 5A19, 600 Dulany Street, Alexandria, VA 22314; by telephone at 571-272-5357; or by e-mail at Chris.Rutherford@uspto.gov.

SUPPLEMENTARY INFORMATION:

I. Abstract

The Government Paperwork Elimination Act (GPEA) directs federal agencies to implement electronic commerce systems that enable the collection and dissemination of information while also ensuring the security and validity of the information that is transmitted. In support of the GPEA and its own electronic filing initiatives, the United States Patent and Trademark Office (USPTO) uses Public Key Infrastructure (PKI) technology to support electronic commerce between the USPTO and its customers. PKI is a set of hardware, software, policies, and procedures that provide several important security services for the electronic business activities of the USPTO, including protecting the confidentiality of unpublished patent applications in accordance with 35 U.S.C. 122 and international patent applications in accordance with Article 30 of the Patent Cooperation Treaty.

In order to provide the necessary security for its electronic commerce systems, the USPTO uses PKI technology to protect the integrity and confidentiality of information submitted to the USPTO. PKI employs public and private encryption keys to authenticate the customer's identity and support secure electronic communication between the customer and the USPTO. Customers may submit a request to the USPTO for a digital certificate, which enables the customer to create the encryption keys necessary for electronic identity verification and secure transactions with the USPTO. This digital certificate is required in order to access secure online systems that are provided by the USPTO for transactions such as electronic filing of patent applications and accessing confidential information about unpublished patent applications.

This information collection includes the Certificate Action Form (PTO-2042), which is available for download from the USPTO Web site. This form is used by the public to request a new digital certificate, the revocation of a current certificate, or the recovery of a lost or corrupted certificate. Customers may also change the name listed on the certificate or associate the certificate with one or more previously assigned Customer Numbers. A certificate request must include a notarized signature in order to verify the identity of the applicant. The Certificate Action Form also has an accompanying subscriber agreement to ensure that customers understand their obligations regarding the use of the digital certificates and cryptographic software.

The USPTO has revised the Certificate Action Form to accommodate its use by limited recognition practitioners who have been granted status to act as representatives in specific patent applications. The revised form allows customers to identify themselves as limited recognition practitioners when requesting a digital certificate. The USPTO is also upgrading its PKI software, which will enable customers to recover their own lost certificates instantly over the Internet without having to contact support staff at the USPTO Electronic Business Center. When generating a new certificate, the customer will have the option of providing additional information for a set of security questions and answers that will be invoked as part of the online verification process in the event the customer uses the certificate self-recovery feature. The electronic Certificate Self-Recovery Form is being added to this collection.

II. Method of Collection

The Certificate Action Form may be mailed or hand delivered to the USPTO. The Certificate Self-Recovery Form is submitted electronically over the Internet.

III. Data

OMB Number: 0651-0045.

Form Number(s): PTO-2042.

Type of Review: Revision of a currently approved collection.

Affected Public: Individuals or households; businesses or other for-profits; not-for-profit institutions; farms; the Federal Government; and state, local or tribal governments.

Estimated Number of Respondents: 4,126 responses per year.

Estimated Time Per Response: The USPTO estimates that it will take the public approximately 30 minutes (0.5 hours) to read the instructions and subscriber agreement, gather the necessary information, prepare the Certificate Action Form (PTO-2042), and submit the completed request. The USPTO estimates that it will take the public approximately 25 minutes (0.42 hours) to complete and electronically submit the information required for Certificate Self-Recovery.

Estimated Total Annual Respondent Burden Hours: 1,898 hours per year.

Estimated Total Annual Respondent Cost Burden: $197,392 per year. For this information collection, the USPTO expects that 70% of the submissions will be prepared by paraprofessionals, 15% by attorneys, and 15% by independent inventors. Using those proportions and the estimated rates of $81 per hour for paraprofessionals, $286 per hour for associate attorneys in private firms, and $30 per hour for independent inventors, the USPTO estimates that the average hourly rate for all respondents will be approximately $104 per hour. Therefore, the estimated total respondent cost burden for this collection will be $197,392 per year.

Item | Estimated time for response (minutes) | Estimated annual responses | Estimated annual burden hours
Certificate Action Form (including Subscriber Agreement) (PTO-2042) | 30 | 2,063 | 1,032
Certificate Self-Recovery Form | 25 | 2,063 | 866
Total |  | 4,126 | 1,898

Estimated Total Annual Non-hour Respondent Cost Burden: $4,889. There are no capital start-up costs, maintenance costs, or filing fees associated with this information collection. Authorized users may download the necessary cryptographic software from the USPTO at no cost. However, this collection does have annual (non-hour) cost burden in the form of recordkeeping costs and postage costs associated with the Certificate Action Form (PTO-2042).

This collection has recordkeeping costs due to the notarization requirement for authenticating the customer's signature on the Certificate Action Form. The USPTO estimates that the average fee for having a signature notarized is $2 and that 2,063 signed Certificate Action Forms will be submitted annually, for a total recordkeeping cost of $4,126 per year.

This collection also has postage costs for submitting the Certificate Action Form to the USPTO by mail. The Certificate Action Form cannot be submitted electronically because it requires an original notarized signature as verification of the customer's identity. The USPTO estimates that the first-class postage cost for a mailed Certificate Action Form will be 37 cents and that it will receive 2,063 Certificate Action Forms annually, for a total postage cost of $763 per year.

The total (non-hour) respondent cost burden for this collection in the form of recordkeeping costs and postage costs is estimated to be $4,889 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: June 15, 2005.
Susan K. Brown,
Records Officer, USPTO, Office of the Chief Information Officer, Office of Data Architecture and Services, Data Administration Division.

[FR Doc. 05-12189 Filed 6-20-05; 8:45 am]

BILLING CODE 3510-16-P